DEPARTMENT OF AGRICULTURE

Federal Crop Insurance Corporation

Commodity Partnerships for Risk Management Education (Commodity Partnerships Program)

Announcement Type: Availability of Funds and Request for Application for Competitive Cooperative Partnership Agreements.

Catalog of Federal Domestic Assistance Number (CFDA): 10.457.

Dates: Applications are due 5 p.m. EDT, April 23, 2007.

Summary: The Federal Crop Insurance Corporation (FCIC), operating through the Risk Management Agency (RMA), announces the availability of approximately $5.0 million for Commodity Partnerships for Risk Management Education (the Commodity Partnerships Program). The purpose of this cooperative partnership agreement program is to deliver training and information in the management of production, marketing, and financial risk to U.S. agricultural producers. The program gives priority to educating producers of crops currently not insured under Federal crop insurance, specialty crops, and underserved commodities, including livestock and forage. A maximum of 50 cooperative partnership agreements will be funded, with no more than five in each of the ten designated RMA Regions. The maximum award for any of the 50 cooperative partnership agreements will be $100,000. Applicants must demonstrate non-financial benefits from a cooperative partnership agreement and must agree to the substantial involvement of RMA in the project.

This Announcement Consists of Eight Sections:

Section I—Funding Opportunity Description

A. Legislative Authority

B. Background

C. Definition of Priority Commodities

D. Project Goal

E. Purpose

F. Objectives

Section II—Award Information

A. Type of Award

B. Funding Availability

C. Location and Target Audience

D. Maximum Award

E. Project Period

F. Awardee Tasks

G. RMA Activities

H. Other Tasks

Section III—Eligibility Information

A. Eligible Applicants

B. Cost Sharing or Matching

C. Other—Non-Financial Benefits

Section IV—Application and Submission Information

A. Address to Submit an Application Package

B. Content and Form of Application Submission

C. Submission Dates and Times

D. Funding Restrictions

E. Limitation on Use of Project Funds for Salaries and Benefits

F. Indirect Cost Rates

G. Other Submission Requirements

H. Electronic submissions

I. Acknowledgement of Applications

Section V—Application Review Process

A. Criteria

B. Selection and Review Process

Section VI—Award Administration

A. Award Notices

B. Administrative and National Policy Requirements

1. Requirement to Use Program Logo

2. Requirement to Provide Project Information to an RMA-selected Representative

3. Private Crop Insurance Organizations and Potential Conflict of Interest

4. Access to Panel Review Information

5. Confidential Aspects of Applications and Awards

6. Audit Requirements

7. Prohibitions and Requirements Regarding Lobbying

8. Applicable OMB Circulars

9. Requirement to Assure Compliance with Federal Civil Rights Laws

10. Requirement to Participate in a Post Award Conference

11. Requirement to Submit Educational Materials to the National AgRisk Education Library

C. Reporting Requirements

Section VII—Agency Contact

Section VIII—Additional Information

A. Dun and Bradstreet Data Universal Numbering System (DUNS)

B. Required Registration with the Central Contract Registry for Submission of Proposals

C. Related Programs

I. Funding Opportunity Description

A. Legislative Authority

The Commodity Partnerships Program is authorized under section 522(d)(3)(F) of the Federal Crop Insurance Act (Act) (7 U.S.C. 1522(d)(3)(F)).

B. Background

RMA promotes and regulates sound risk management solutions to improve the economic stability of American agriculture. On behalf of FCIC, RMA does this by offering Federal crop insurance products through a network of private-sector partners, overseeing the creation of new risk management products, seeking enhancements in existing products, ensuring the integrity of crop insurance programs, offering outreach programs aimed at equal access and participation of underserved communities, and providing risk management education and information.

One of RMA's strategic goals is to ensure that its customers are well informed as to the risk management solutions available. This educational goal is supported by section 522(d)(3)(F) of the Act, which authorizes FCIC funding for risk management training and informational efforts for agricultural producers through the formation of partnerships with public and private organizations. With respect to such partnerships, priority is to be given to reaching producers of Priority Commodities, as defined below.

C. Definition of Priority Commodities

For purposes of this program, Priority Commodities are defined as:

• Agricultural commodities covered by (7 U.S.C. 7333). Commodities in this group are commercial crops that are not covered by catastrophic risk protection crop insurance, are used for food or fiber (except livestock), and specifically include, but are not limited to, floricultural, ornamental nursery, Christmas trees, turf grass sod, aquaculture (including ornamental fish), and industrial crops.

• Specialty crops. Commodities in this group may or may not be covered under a Federal crop insurance plan and include, but are not limited to, fruits, vegetables, tree nuts, syrups, honey, roots, herbs, and highly specialized varieties of traditional crops.

• Underserved commodities. This group includes: (a) commodities, including livestock and forage, that are covered by a Federal crop insurance plan but for which participation in an area is below the national average; and (b) commodities, including livestock and forage, with inadequate crop insurance coverage.

A project is considered as giving priority to Priority Commodities if the majority of the educational activities of the project are directed to producers of any of the three classes of commodities listed above or any combination of the three classes.

D. Project Goal

The goal of this program is to ensure that “* * * producers will be better able to use financial management, crop insurance, marketing contracts, and other existing and emerging risk management tools.”

E. Purpose

The purpose of the Commodity Partnership Program is to provide U.S. farmers and ranchers with training and informational opportunities to be able to understand:

• The kinds of risks addressed by existing and emerging risk management tools;

• the features and appropriate use of existing and emerging risk management tools; and

• how to make sound risk management decisions.

F. Objectives

For 2007, the FCIC Board of Directors and the FCIC Manager are seeking projects with priorities that include the project objectives listed below which highlight the educational priorities within each RMA Region. The objectives are listed in priority order, with the most important objective designated as 1, the second most important designated as 2, etc. The order of priority will be considered in making awards. Applicants may propose other topics within any project objective but justification for those topics must be provided. RMA encourages applications that address multiple objectives, but each application must specify a single primary objective for funding purposes in an RMA Region. Applications that do not clearly specify a single primary objective for funding purposes in an RMA Region will be rejected. “Unrestricted Risk Management Topics” are topics that address the Commodity Partnership Program purpose as listed above in Section I E. In order of priority, the project objectives are:

Billings, MT Region: (MT, ND, SD, and WY)

1. Unrestricted Risk Management Topics (Two funded projects)

2. Adjusted Gross Revenue (AGR)-Lite Insurance Tools (MT, WY)

3. Pasture Rangeland and Forage (PRF) Rainfall Index Insurance Tools (ND)

4. PRF Vegetative Index Insurance Tools (SD)

Davis, CA Region: (AZ, CA, HI, NV, and UT)

1. Unrestricted Risk Management Topics (Two funded projects)

2. AGR (CA) and AGR-Lite Insurance Tools (AZ, HI, NV, UT)

3. Livestock Risk Protection (LRP) Insurance Tools (CA, NV, UT)

4. Hawaii Tropical Fruit Tree Insurance Tools (HI)

Jackson, MS Region: (AR, KY, LA, MS, and TN)

1. Unrestricted Risk Management Topics (Two funded projects)

2. Record Keeping Requirements for AGR-Lite Insurance Tools (TN)

3. LRP Insurance Tools, PRF Rainfall Index and the PRF Vegetation Index Insurance Tools (AR, KY, LA, MS, and TN)

4. Nursery Price Endorsement Crop Insurance Tool (AR, KY, LA, MS, and TN)

Oklahoma City, OK Region: (NM, OK, and TX)

1. Unrestricted Risk Management Topics (Two funded projects)

2. AGR-Lite Insurance Tools (NM)

3. PRF Rainfall Index (TX) and the PRF Vegetation Index (OK) Insurance Tools

4. LRP (OK, TX) Insurance Tools

Raleigh, NC Region: (CT, DE, MA, MD, ME, NC, NH, NY, NJ, PA, RI, VA, VT, and WV)

1. Unrestricted Risk Management Topics (Two funded projects)

2. Aquaculture (Clams) Insurance Tools—(MA, VA)

3. Nursery Insurance Tools—(CT, DE, MA, ME, MD, NC, NH, NY, NJ, PA, RI, VA, VT, and WV)

4. AGR Insurance Tools—(CT, DE, MA, MD, ME, NH, NJ, NY, PA, RI, VT, and VA)

AGR-Lite Insurance Tools—(CT, DE, MA, ME, MD, NC, NH, NY, NJ, PA, RI, VA, VT, and WV)

Livestock and LRP Insurance Tools—(WV)

PRF Rainfall Index and the PRF Vegetation Index Insurance Tools—(PA)

Spokane, WA Region: (AK, ID, OR, and WA)

1. Unrestricted Risk Management Topics (Two funded projects)

2. AGR-Lite Insurance Tools (Willamette Valley of OR and in Western WA)

3. PRF Rainfall Index Insurance Tool (ID) and PRF Vegetation Index Insurance Tool (OR)

4. LRP Lamb Pilot Insurance Tools (ID and OR)

Springfield, IL Region: (IL, IN, MI, and OH)

1. Unrestricted Risk Management Topics (Two funded projects)

2. AGR (MI), LRP Insurance Tools, PRF Rainfall Index and PRF Vegetation Index Insurance Tools (IL, IN, MI, OH)

3. Cherry Pilot Insurance Tools (MI)

4. Grape Insurance Tools (IL, IN, MI, OH)

St. Paul, MN Region: (IA, MN, and WI)

1. Unrestricted Risk Management Topics (Two funded projects)

2. AGR-Lite Insurance Tools (MN and WI)

3. LRP and Livestock Gross Margin (LGM) Insurance Tools

4. Hybrid Corn Seed Insurance Tools (IA, MN, and WI)

Topeka, KS Region: (CO, KS, MO, and NE)

1. Unrestricted Risk Management Topics (Two funded projects)

2. AGR-Lite Insurance Tools (CO, KS)

3. PRF Rainfall Index and PRF Vegetation Index Insurance Tools (CO)

4. Documentation Requirements for Irrigation Availability (CO, KS, NE)

Valdosta, GA Region: (AL, FL, GA, SC, and Puerto Rico)

1. Unrestricted Risk Management Topics (Two funded projects)

2. PRF Rainfall Index and PRF Vegetation Index Insurance Tools (SC)

3. AGR-Lite Insurance Tools (AL, FL, GA and SC)

4. Avocado Fruit (Dade County, FL) and Citrus Insurance Tools (FL)

II. Award Information

A. Type of Award

Cooperative Partnership Agreements, which require the substantial involvement of RMA.

B. Funding Availability

Approximately $5,000,000 is available in fiscal year 2007 to fund up to 50 cooperative partnership agreements. The maximum award will be $100,000. It is anticipated that a maximum of five agreements will be funded for each designated RMA Region. Applicants should apply for funding under that RMA Region where the educational activities will be directed.

In the event that all funds available for this program are not obligated after the maximum number of agreements are awarded or if additional funds become available, these funds may, at the discretion of the Manager of FCIC, be used to award additional applications that score highly by the technical review panel or allocated pro-rata to awardees for use in broadening the size or scope of awarded projects if agreed to by the awardee. In the event that the Manager of FCIC determines that available RMA resources cannot support the administrative and substantial involvement requirements of all agreements recommended for funding, the Manager may elect to fund fewer agreements than the available funding might otherwise allow. It is expected that the awards will be made approximately 60 days after the application deadline. All awards will be made and agreements finalized no later than September 30, 2007.

C. Location and Target Audience

RMA Regional Offices and the States serviced within each Region are listed below. Staff from the respective RMA Regional Offices will provide substantial involvement for projects conducted within their Region.

Billings, MT Regional Office: (MT, ND, SD, and WY)

Davis, CA Regional Office: (AZ, CA, HI, NV, and UT)

Jackson, MS Regional Office: (AR, KY, LA, MS, and TN)

Oklahoma City, OK Regional Office: (NM, OK, and TX)

Raleigh, NC Regional Office: (CT, DE, MA, MD, ME, NC, NH, NJ, NY, PA, RI, VA, VT, and WV)

Spokane, WA Regional Office: (AK, ID, OR, and WA)

Springfield, IL Regional Office: (IL, IN, MI, and OH)

St. Paul, MN Regional Office: (IA, MN, and WI)

Topeka, KS Regional Office: (CO, KS, MO, and NE)

Valdosta, GA Regional Office: (AL, FL, GA, SC, and Puerto Rico)

Applicants must clearly designate in their application narratives the RMA Region where educational activities will be conducted, the specific groups of producers within the region that the applicant intends to reach through the project, and must clearly designate in their application the primary educational objective listed in Section I (F) that the project will address. Priority will be given to producers of Priority Commodities. Applicants proposing to conduct educational activities in more than one RMA Region must submit a separate application for each RMA Region. Single applications proposing to conduct educational activities in more than one RMA Region will be rejected.

D. Maximum Award

Any application that requests Federal funding of more than $100,000 will be rejected. RMA also reserves the right to fund successful applications at an amount less than requested if it is judged that the application can be implemented at a lower funding level.

E. Project Period

Projects will be funded for a period of up to one year from the project starting date.

F. Awardee Tasks

In conducting activities to achieve the purpose and goal of this program in a designated RMA Region, the awardee will be responsible for performing the following tasks:

• Develop and conduct a promotional program. This program will include activities using media, newsletters, publications, or other appropriate informational dissemination techniques that are designed to: (a) Raise awareness for risk management; (b) inform producers of the availability of risk management tools; and (c) inform producers and agribusiness leaders in the designated RMA Region of training and informational opportunities.

• Deliver risk management training and informational opportunities to agricultural producers and agribusiness professionals in the designated RMA Region. This will include organizing and delivering educational activities using instructional materials that have been assembled to meet the local needs of agricultural producers. Activities should be directed primarily to agricultural producers, but may include those agribusiness professionals that have frequent opportunities to advise producers on risk management tools and decisions.

• Document all educational activities conducted under the partnership agreement and the results of such activities, including criteria and indicators used to evaluate the success of the program. The awardee may also be required to provide information to an RMA-selected contractor to evaluate all educational activities and advise RMA as to the effectiveness of activities.

G. RMA Activities

FCIC, working through RMA, will be substantially involved during the performance of the funded project through RMA's ten Regional Offices. Potential types of substantial involvement may include, but are not limited to the following activities.

• Assist in the selection of subcontractors and project staff.

• Collaborate with the awardee in assembling, reviewing, and approving risk management materials for producers in the designated RMA Region.

• Collaborate with the awardee in reviewing and approving a promotional program for raising awareness for risk management and for informing producers of training and informational opportunities in the RMA Region.

• Collaborate with the awardee on the delivery of education to producers and agribusiness leaders in the RMA Region. This will include: (a) Reviewing and approving in advance all producer and agribusiness leader educational activities; (b) advising the project leader on technical issues related to crop insurance education and information; and (c) assisting the project leader in informing crop insurance professionals about educational activity plans and scheduled meetings.

• Conduct an evaluation of the performance of the awardee in meeting the deliverables of the project.

Applications that do not contain substantial involvement by RMA will be rejected.

H. Other Tasks

In addition to the specific, required tasks listed above, the applicant may propose additional tasks that would contribute directly to the purpose of this program. For any proposed additional task, the applicant must identify the objective of the task, the specific subtasks required to meet the objective, specific time lines for performing the subtasks, and the specific responsibilities of partners. The applicant must also identify specific ways in which RMA would have substantial involvement in the proposed project task.

III. Eligibility Information

A. Eligible Applicants

Eligible applicants include State departments of agriculture, universities, non-profit agricultural organizations, and other public or private organizations with the capacity to lead a local program of risk management education for farmers and ranchers in an RMA Region. Individuals are not eligible applicants. Although an applicant may be eligible to compete for an award based on its status as an eligible entity, other factors may exclude an applicant from receiving Federal assistance under this program governed by Federal law and regulations (e.g. debarment and suspension; a determination of non-performance on a prior contract, cooperative agreement, grant or partnership; a determination of a violation of applicable ethical standards; a determination of being considered “high risk”). Applications from ineligible or excluded persons will be rejected in their entirety.

B. Cost Sharing or Matching

Although RMA prefers cost sharing by the applicant, this program has neither a cost sharing nor a matching requirement.

C. Other—Non-Financial Benefits

To be eligible, applicants must also be able to demonstrate that they will receive a non-financial benefit as a result of a partnership agreement. Non-financial benefits must accrue to the applicant and must include more than the ability to provide employment income to the applicant or for the applicant's employees or the community. The applicant must demonstrate that performance under the partnership agreement will further the specific mission of the applicant (such as providing research or activities necessary for graduate or other students to complete their educational program). Applicants that do not demonstrate a non-financial benefit will be rejected.

IV. Application and Submission Information

A. Contact to Request Application Package

Program application materials for the Commodity Partnerships Program under this announcement may be downloaded from http://www.rma.usda.gov/aboutrma/agreements. Applicants may also request application materials from: Lon Burke, USDA-RMA-RME, phone: (202) 720-5265, fax: (202) 690-3605, e-mail: RMA.Risk-Ed@rma.usda.gov.

B. Content and Form of Application Submission

A complete and valid application package must include an electronic copy (Microsoft Word format preferred) of the narrative portion (Forms RME 1 and RME-2) of the application package on a compact disc and an original and two copies of the completed and signed application must be submitted in one package at the time of initial submission, which must include the following:

1. A completed and signed OMB Standard Form 424, “Application for Federal Assistance.”

2. A completed and signed OMB Standard Form 424-A, “Budget Information—Non-construction Programs.” Federal funding requested (the total of direct and indirect costs) must not exceed $100,000.

3. A completed and signed OMB Standard Form 424-B, “Assurances, Non-constructive Programs.”

4. Risk Management Education Project Narrative (Form RME-1). Complete all required parts of Form RME-1:

Part I—Title Page.

Part II—A written narrative of no more than 10 single-sided pages which will provide reviewers with sufficient information to effectively evaluate the merits of the application according to the evaluation criteria listed in this notice. Although a Statement of Work, which is the third evaluation criterion, is to be completed in detail in RME Form-2, applicants may wish to highlight certain unique features of the Statement of Work in Part II for the benefit of the evaluation panel. If your narrative exceeds the page limit, only the first 10 pages will be reviewed.

• No smaller than 12 point font size.

• Use an easily readable font face (e.g., Arial, Geneva, Helvetica, Times Roman).

• 8.5 by 11 inch paper

• One-inch margins on each page.

• Printed on only one side of paper.

• Held together only by rubber bands or metal clips; not bound or stapled in any other way

Part III—A Budget Narrative, describing how the categorical costs listed on SF 424-A are derived. The budget narrative should provide enough detail for reviewers to easily understand how costs were determined and how they relate to the goals and objectives of the project.

Part IV—Provide a “Statement of Non-financial Benefits.” (Refer to Section III, Eligibility Information, C. Other—Non-financial Benefits, above).

5. “Statement of Work,” Form RME-2, which identifies tasks and subtasks in detail, expected completion dates and deliverables, and RMA's substantial involvement role for the proposed project.

Applications that do not include items 1-5 above will be considered incomplete and will not receive further consideration and will be rejected.

C. Submission Dates and Times

Applications Deadline: 5 p.m. EDT, May 7, 2007. Applicants are responsible for ensuring that RMA receives a complete application package by the closing date and time. USPS mail sent to Washington DC headquarters is sanitized offsite, which may result in delays, loss, and physical damage to enclosures. Regardless of the delivery method you choose, please do so sufficiently in advance of the due date to ensure your application package is received on or before the deadline. It is your responsibility to meet the due date and time. E-mailed and faxed applications will not be accepted. Late application packages will not receive further consideration and will be rejected.

D. Funding Restrictions

Cooperative partnership agreement funds may not be used to:

a. Plan, repair, rehabilitate, acquire, or construct a building or facility including a processing facility;

b. purchase, rent, or install fixed equipment;

c. repair or maintain privately owned vehicles;

d. pay for the preparation of the cooperative partnership agreement application;

e. fund political activities;

f. purchase alcohol, food, beverage, or entertainment;

g. pay costs incurred prior to receiving a partnership agreement;

h. fund any activities prohibited in 7 CFR Parts 3015 and 3019, as applicable.

E. Limitation on Use of Project Funds for Salaries and Benefits

Total costs for salary and benefits allowed for projects under this announcement will be limited to not more than 60 percent reimbursement of the funds awarded under the cooperative partnership agreement as indicated in Section III. Eligibility Information, C. Other—Non-financial Benefits. One goal of the Commodity Partnerships program is to maximize the use of the limited funding available for risk management education for producers of Priority Commodities. In order to accomplish this goal, RMA needs to ensure that the maximum amount of funds practicable is used for directly providing the educational opportunities. Limiting the amount of funding for salaries and benefits will allow the limited amount of funding to reach the maximum number of farmers and ranchers.

F. Indirect Cost Rates

a. Indirect costs allowed for projects submitted under this announcement will be limited to ten (10) percent of the total direct cost of the cooperative partnership agreement. Therefore, when preparing budgets, applicants should limit their requests for recovery of indirect costs to the lesser of their institution's official negotiated indirect cost rate or 10 percent of the total direct costs.

b. RMA will withhold all indirect cost rate funds for an award to an applicant requesting indirect costs if the applicant has not negotiated an indirect cost rate with its cognizant Federal agency.

c. If an applicant is in the process of negotiating an indirect cost rate with its cognizant Federal agency, RMA will withhold all indirect cost rate funds from that applicant until the indirect cost rate has been established.

d. If an applicant's indirect cost rate has expired or will expire prior to award announcements, a clear statement on renegotiation efforts must be included in the application.

e. It is incumbent on all applicants to have a current indirect cost rate or begin negotiations to establish an indirect cost rate prior to the submission deadline. Because it may take several months to obtain an indirect cost rate, applicants needing an indirect cost rate are encouraged to start work on establishing these rates well in advance of submitting an application. The U.S. Office of Management and Budget (OMB) is responsible for assigning cognizant Federal agencies.

f. Applicants may be asked to provide a copy of their indirect cost rate negotiated with their cognizant agency.

g. RMA reserves the right to negotiate final budgets with successful applicants.

G. Other Submission Requirements

Mailed submissions: Applications submitted through express, overnight mail or another delivery service will be considered as meeting the announced deadline if they are received in the mailroom at the address stated below for express, overnight mail or another delivery service on or before the deadline. Applicants are cautioned that express, overnight mail or other delivery services do not always deliver as agreed. Applicants should take this into account because failure of such delivery services will not extend the deadline. Mailed applications will be considered as meeting the announced deadline if they are received on or before the deadline in the mailroom at the address stated below for mailed applications. Applicants are responsible for mailing applications well in advance, to ensure that applications are received on or before the deadline time and date. Applicants using the U.S. Postal Services should allow for the extra security handling time for delivery due to the additional security measures that mail delivered to government offices in the Washington DC area requires.

Address when using private delivery services or when hand delivering: Attention: Risk Management Education Program, USDA/RMA/RME, Room 5720, South Building, 1400 Independence Avenue, SW., Washington, DC 20250.

Address when using U.S. Postal Services: Attention: Risk Management Education Program, USDA/RMA/RME/Stop 0808, Room 5720, South Building, 1400 Independence Ave, SW., Washington, DC 20250-0808.

H. Electronic Submissions

Applications transmitted electronically via Grants.gov will be accepted prior to the application date or time deadline. The application package can be accessed via Grants.gov, go to http://www.grants.gov, click on “Find Grant Opportunities,” click on “Search Grant Opportunities,” and enter the CFDA number (located at the beginning of this RFA) to search by CFDA number. From the search results, select the item that correlates to the title of this RFA. If you do not have electronic access to the RFA or have trouble downloading material and you would like a hardcopy, you may contact Lon Burke, USDA-RMA-RME, phone: (202) 720-5265, fax: (202) 690-3605, e-mail: RMA.Risk-Ed@rma.usda.gov.

If assistance is needed to access the application package via Grants.gov (e.g., downloading or navigating PureEdge forms, using PureEdge with a Macintosh computer), refer to resources available on the Grants.gov Web site first (http://www.grants.gov/). Grants.gov assistance is also available as follows:

• Grants.gov customer support, Toll Free: 1-800-518-4726, Business Hours: M-F 7 am—9 pm Eastern Standard Time, E-mail: support@grants.gov.

Applicants who submit their applications via the Grants.gov website are not required to submit any hard copy documents to RMA.

When using Grants.gov to apply, RMA strongly recommends that you submit the online application at least two weeks prior to the application due date in case there are problems with the Grants.gov website and you want to submit your application via a mail delivery service.

I. Acknowledgement of Applications

Receipt of applications will be acknowledged by e-mail, whenever possible. Therefore, applicants are encouraged to provide e-mail addresses in their applications. If an e-mail address is not indicated on an application, receipt will be acknowledged by letter. There will be no notification of incomplete, unqualified or unfunded applications until the awards have been made. When received by RMA, applications will be assigned an identification number. This number will be communicated to applicants in the acknowledgement of receipt of applications. An application's identification number should be referenced in all correspondence regarding the application. If the applicant does not receive an acknowledgement within 15 days of the submission deadline, the applicant should notify RMA's point of contact indicated in Section VII, Agency Contact.

V. Application Review Information

A. Criteria

Applications submitted under the Commodity Partnerships Program will be evaluated within each RMA Region according to the following criteria:

Priority—Maximum 10 Points

The applicant can submit projects that are not related to Priority Commodities. However, priority is given to projects relating to Priority Commodities and the degree in which such projects relate to the Priority Commodities. Projects that relate solely to Priority Commodities will be eligible for the most points.

Project Benefits—Maximum 35 Points

The applicant must demonstrate that the project benefits to farmers and ranchers warrant the funding requested. Applicants will be scored according to the extent they can: (a) Reasonably estimate the total number of producers reached through the various educational activities described in the Statement of Work; (b) justify such estimates with clear specifics; (c) identify the actions producers will likely be able to take as a result of the activities described in the Statement of Work; and (d) identify the specific measures for evaluating results that will be employed in the project. Reviewers' scoring will be based on the scope and reasonableness of the applicant's estimates of producers reached through the project, clear descriptions of specific expected project benefits, and well-designed methods for measuring the project's results and effectiveness.

Statement of Work—Maximum 15 Points

The applicant must produce a clear and specific Statement of Work for the project. For each of the tasks contained in the Description of Agreement Award (refer to Section II Award Information), the applicant must identify and describe specific subtasks, responsible entities, expected completion dates, RMA substantial involvement, and deliverables that will further the purpose of this program. Applicants will obtain a higher score to the extent that the Statement of Work is specific, measurable, reasonable, has specific deadlines for the completion of subtasks, relates directly to the required activities and the program purpose described in this announcement, which is to provide producers with training and informational opportunities so that the producers will be better able to use financial management, crop insurance, marketing contracts, and other existing and emerging risk management tools. Applicants are required to submit this Statement of Work on Form RME-2.

Partnering—Maximum 15 Points

The applicant must demonstrate experience and capacity to partner with and gain the support of grower organizations, agribusiness professionals, and agricultural leaders to carry out a local program of education and information in a designated RMA Region. The applicant is required to establish a written partnering plan that includes how each partner will aid in carrying out the project goal and purpose stated in this announcement and letters of support stating that the partner has agreed to do this work. The applicant must ensure this plan includes a list of all partners working on the project, their titles, and how they will be contributing to the deliverables listed in the agreement. Applicants will receive higher scores to the extent that they can document and demonstrate: (a) That partnership commitments are in place for the express purpose of delivering the program in this announcement; (b) that a broad group of farmers and ranchers will be reached within the RMA Region; (c) that partners are contributing to the project and involved in recruiting producers to attend the training; (d) that a substantial effort has been made to partner with organizations that can meet the needs of producers; and (e) statements from each partner regarding the number of producers that partner is committed to recruit for the project that would support the estimates specified under the Project Benefits criterion.

Project Management—Maximum 15 Points

The applicant must demonstrate an ability to implement sound and effective project management practices. Higher scores will be awarded to applicants that can demonstrate organizational skills, leadership, and experience in delivering services or programs that assist agricultural producers in the respective RMA Region. The project manager must demonstrate that he/she has the capability to accomplish the project goal and purpose stated in this announcement by (a) having a previous working relationship with the farm community in the designated RMA Region of the application, including being able to recruit approximately the number of producers to be reached in the application and/or (b) having established the capacity to partner with and gain the support of grower organizations, agribusiness professionals, and agribusiness leaders locally to aid in carrying out a program of education and information, including being able to recruit approximately the number of producers to be reached in this application. Applicants that will employ, or have access to, personnel who have experience in directing local educational programs that benefit agricultural producers in the respective RMA Region will receive higher rankings.

Past Performance—Maximum 10 Points

If the applicant has been an awardee of other Federal or other government grants, cooperative agreements, or contracts, the applicant must provide information relating to their past performance in reporting on outputs and outcomes under past or current federal assistance agreements. The applicant must also detail that they have consistently complied with financial and program reporting and auditing requirements. RMA reserves the right to add up to 10 points to applications due to past performance. Applicants with very good past performance will receive a score from 6-10 points. Applicants with acceptable past performance will receive a score from 1-5 points. Applicants with unacceptable past performance will receive a score of minus 5 points for this evaluation factor. Applicants without relevant past performance information will receive a neutral score of the mean number of points of all applicants with past performance. Under this cooperative partnership agreement, RMA will subjectively rate the awardee on project performance as indicated in Section II, G.

The applicant must list all current public or private support to which personnel identified in the application have committed portions of their time, whether or not salary support for persons involved is included in the budget. An application that duplicates or overlaps substantially with an application already reviewed and funded (or to be funded) by another organization or agency will not be funded under this program. The projects proposed for funding should be included in the pending section.

Budget Appropriateness and Efficiency—Maximum 15 Points

Applicants must provide a detailed budget summary that clearly explains and justifies costs associated with the project. Applicants will receive higher scores to the extent that they can demonstrate a fair and reasonable use of funds appropriate for the project and a budget that contains the estimated cost of reaching each individual producer. The applicant must provide information factors such as:

• The allowability and necessity for individual cost categories;

• The reasonableness of amounts estimated for necessary costs;

• The basis used for allocating indirect or overhead costs;

• The appropriateness of allocating particular overhead costs to the proposed project as direct costs; and

• The percent of time devoted to the project for all key project personnel identified in the application. Salaries of project personnel should be requested in proportion to the percent of time that they would devote to the project—Note: Cannot exceed 60% of the total project budget. Applicants must list all current public or private support to which personnel identified in the application have committed portions of their time, whether or not salary support for persons involved is included in the budget. Only items or services that are necessary for the successful completion of the project will be funded as permitted under the Act.

B. Review and Selection Process

Applications will be evaluated using a two-part process. First, each application will be screened by RMA personnel to ensure that it meets the requirements in this announcement. Applications that do not meet the requirements of this announcement or are incomplete will not receive further consideration during the next process. Applications that meet announcement requirements will be sorted into the RMA Region in which the applicant proposes to conduct the project and then sorted by project objective listed in Section I (F). These applications will be presented to a review panel for consideration.

Second, the review panel will meet to consider and discuss the merits of each application. The panel will consist of not less than two independent reviewers. Reviewers will be drawn from USDA, other Federal agencies, and others representing public and private organizations, as needed. After considering the merits of all applications within an RMA Region, panel members will score each application according to the criteria and point values listed above. The panel will then rank each application against others within the RMA Region by educational objective listed in Section I (F) according to the scores received. Those applications will be listed in initial rank order by objective within each RMA Region. The highest-ranking application for each objective will be funded in the order of priority (the highest-ranking application meeting objective 2 will be funded third, etc.) in each RMA Region. Note: Two projects will be funded in objective 1 in each RMA Region. In the event that there no applications that warrant funding in objectives 1-4 or if there are funds remaining, the process will be repeated until the funds are obligated.

A lottery will be used to resolve any instances of a tie score that might have a bearing on funding recommendations. If such a lottery is required, the names of all tied applicants will be entered into a drawing. The first tied applicant drawn will have priority over other tied applicants for funding consideration.

The review panel will report the results of the evaluation to the Manager of FCIC. The panel's report will include the recommended applicants to receive partnership agreements for each RMA Region. Funding will not be provided for an application receiving a score less than 60. Funding will not be provided for an application that is highly similar to a higher-scoring application in the same RMA Region. Highly similar is one that proposes to reach the same producers likely to be reached by another applicant that scored higher by the panel and the same general educational material is proposed to be delivered.

An organization, or group of organizations in partnership, may apply for funding under other FCIC or RMA programs, in addition to the program described in this announcement. However, if the Manager of FCIC determines that an application recommended for funding is sufficiently similar to a project that has been funded or has been recommended to be funded under another RMA or FCIC program, then the Manager may elect to not fund that application in whole or in part. The Manager of FCIC will make the final determination on those applications that will be awarded funding.

VI. Award Administration Information

A. Award Notices

Following approval by the awarding official of RMA of the applications to be selected for funding, project leaders whose applications have been selected for funding will be notified. Within the limit of funds available for such a purpose, the awarding official of RMA shall enter into cooperative partnership agreements with those selected applicants. The agreements provide the amount of Federal funds for use in the project period, the terms and conditions of the award, and the time period for the project. The effective date of the agreement shall be on the date the agreement is executed by both parties and it shall remain in effect for up to one year or through September 30, 2008, whichever is later.

After a cooperative partnership agreement has been signed, RMA will extend to awardees, in writing, the authority to draw down funds for the purpose of conducting the activities listed in the agreement. All funds provided to the awardee by FCIC must be expended solely for the purpose for which the funds are obligated in accordance with the approved agreement and budget, the regulations, the terms and conditions of the award, and the applicability of Federal cost principles. No commitment of Federal assistance beyond the project period is made or implied for any award resulting from this notice.

Notification of denial of funding will be sent to applicants after final funding decisions have been made and the awardees announced publicly. Reasons for denial of funding can include, but are not limited to, incomplete applications, applications with evaluation scores that are lower than other applications in an RMA Region, or applications that propose to deliver education to groups of producers in an RMA Region that are largely similar to groups reached in a higher ranked application.

B. Administrative and National Policy Requirements

1. Requirement to Use Program Logo

Awardees will be required to use a program logo and design provided by RMA for all instructional and promotional materials.

2. Requirement to Provide Project Information to an RMA-selected Representative

Awardees will be required to assist RMA in evaluating the effectiveness of its educational programs by providing documentation of educational activities and related information to any representative selected by RMA for program evaluation purposes.

3. Private Crop Insurance Organizations and Potential Conflicts of Interest

Private organizations that are involved in the sale of Federal crop insurance, or that have financial ties to such organizations, are eligible to apply for funding under this announcement. However, such entities will not be allowed to receive funding to conduct activities that would otherwise be required under a Standard Reinsurance Agreement or any other agreement in effect between FCIC and the entity. Also, such entities will not be allowed to receive funding to conduct activities that could be perceived by producers as promoting one company's services or products over another's. If applying for funding, such organizations are encouraged to be sensitive to potential conflicts of interest and to describe in their application the specific actions they will take to avoid actual and perceived conflicts of interest.

4. Access to Panel Review Information

Upon written request from the applicant, scores from the evaluation panel, not including the identity of reviewers, will be sent to the applicant after the review and awards process has been completed.

5. Confidential Aspects of Applications and Awards

The names of applicants, the names of individuals identified in the applications, the content of applications, and the panel evaluations of applications will all be kept confidential, except to those involved in the review process, to the extent permitted by law. In addition, the identities of review panel members will remain confidential throughout the entire review process and will not be released to applicants. At the end of the fiscal year, names of panel members will be made available. However, panelists will not be identified with the review of any particular application. When an application results in a partnership agreement, that agreement becomes a part of the official record of RMA transactions, available to the public upon specific request. Information that the Secretary of Agriculture determines to be of a confidential, privileged, or proprietary nature will be held in confidence to the extent permitted by law. Therefore, any information that the applicant wishes to be considered confidential, privileged, or proprietary should be clearly marked within an application, including the basis for such designation. The original copy of a application that does not result in an award will be retained by RMA for a period of one year. Other copies will be destroyed. Copies of applications not receiving awards will be released only with the express written consent of the applicant or to the extent required by law. An application may be withdrawn at any time prior to award.

6. Audit Requirements

Awardees are subject to audit.

7. Prohibitions and Requirements with Regard to Lobbying

Section 1352 of Public Law 101-121, enacted on October 23, 1989, imposes prohibitions and requirements for disclosure and certification related to lobbying on awardees of Federal contracts, grants, cooperative agreements, and loans. It provides exemptions for Indian Tribes and tribal organizations. Current and prospective awardees and any subcontractors, are prohibited from using Federal funds, other than profits from a Federal contract, for lobbying Congress or any Federal agency in connection with the award of a contract, grant, cooperative agreement, or loan. In addition, for each award action in excess of $100,000 ($150,000 for loans) the law requires awardees and any subcontractors: (1) To certify that they have neither used nor will use any appropriated funds for payment of lobbyists; (2) to disclose the name, address, payment details, and purpose of any agreements with lobbyists whom awardees of their subcontractors will pay with profits or other non-appropriated funds on or after December 22, 1989; and (3) to file quarterly up-dates about the use of lobbyists if material changes occur in their use. The law establishes civil penalties for non-compliance. A copy of the certification and disclosure forms must be submitted with the application and are available at the address and telephone number listed in Section VII. Agency Contact.

8. Applicable OMB Circulars

All cooperative partnership agreements funded as a result of this notice will be subject to the requirements contained in all applicable OMB circulars.

9. Requirement to Assure Compliance with Federal Civil Rights Laws

Project leaders of all cooperative partnership agreements funded as a result of this notice are required to know and abide by Federal civil rights laws and to assure USDA and RMA that the awardee is in compliance with and will continue to comply with Title VI of the Civil Rights Act of 1964 (42 U.S.C. 2000d et seq.), 7 CFR Part 15, and USDA regulations promulgated thereunder, 7 CFR 1901.202. RMA requires that awardees submit an Assurance Agreement (Civil Rights), assuring RMA of this compliance prior to the beginning of the project period.

10. Requirement to Participate in a Post Award Conference

RMA requires that project leaders attend a post award conference to become fully aware of agreement requirements and for delineating the roles of RMA personnel and the procedures that will be followed in administering the agreement and will afford an opportunity for the orderly transition of agreement duties and obligations if different personnel are to assume post-award responsibility. In their applications, applicants should budget for possible travel costs associated with attending this conference.

11. Requirement to Submit Educational Materials to the National AgRisk Education Library

RMA requires that project leaders upload digital copies of all risk management educational materials developed because of the project to the National AgRisk Education Library (http://www.agrisk.umn.edu/) for posting. RMA will be clearly identified as having provided funding for the materials.

C. Reporting Requirements

Awardees will be required to submit quarterly progress reports, quarterly financial reports (OMB Standard Form 269), and quarterly Activity Logs (Form RME-3) throughout the project period, as well as a final program and financial report not later than 90 days after the end of the project period.

Awardees will be required to submit prior to the award:

• A completed and signed Form RD 400-4, Assurance Agreement (Civil Rights).

• A completed and signed OMB Standard Form LLL, “Disclosure of Lobbying Activities.”

• A completed and signed AD-1047, “Certification Regarding Debarment, Suspension and Other Responsibility Matters—Primary Covered Transactions.”

• A completed and signed AD-1049, “Certification Regarding Drug-Free Workplace.”

• A completed and signed Faith-Based Survey on EEO.

VII. Agency Contact

For Further Information Contact: Applicants and other interested parties are encouraged to contact: Lon Burke, USDA-RMA-RME, 1400 Independence Ave. SW, Stop 0808, Room 5720, Washington, DC 20250-0808, phone: 202-720-5265, fax: 202-690-3605, e-mail: RMA.Risk-Ed@rma.usda.gov. You may also obtain information regarding this announcement from the RMA Web site at: http://www.rma.usda.gov/aboutrma/agreements.

VIII. Other Information

A. Dun and Bradstreet Data Universal Numbering System (DUNS)

A DUNS number is a unique nine-digit sequence recognized as the universal standard for identifying and keeping track of over 70 million businesses worldwide. The Office of Management and Budget published a notice of final policy issuance in the Federal Register June 27, 2003 (68 FR 38402) that requires a DUNS number in every application (i.e., hard copy and electronic) for a grant or cooperative agreement on or after October 1, 2003. Therefore, potential applicants should verify that they have a DUNS number or take the steps needed to obtain one. For information about how to obtain a DUNS number, go to http://www.grants.gov. Please note that the registration may take up to 14 business days to complete.

B. Required Registration With the Central Contract Registry for Submission of Proposals

The Central Contract Registry (CCR) is a database that serves as the primary Government repository for contractor information required for the conduct of business with the Government. This database will also be used as a central location for maintaining organizational information for organizations seeking and receiving grants from the Government. Such organizations must register in the CCR prior to the submission of applications. A DUNS number is needed for CCR registration. For information about how to register in the CCR, visit ”Get Started” at the Web site, http://www.grants.gov. Allow a minimum of 5 business days to complete the CCR registration.

C. Related Programs

Funding availability for this program may be announced at approximately the same time as funding availability for similar but separate programs—CFDA No. 10.455 (Community Outreach and Assistance Partnerships), CFDA No. 10.456 (Risk Management Research Partnerships), CFDA No. 10.458 (Crop Insurance Education in Targeted States), and CFDA No. 10.459 (Commodity Partnerships Small Sessions Program). These programs have some similarities, but also key differences. The differences stem from important features of each program's authorizing legislation and different RMA objectives. Prospective applicants should carefully examine and compare the notices for each program.

Signed in Washington, DC on March 1, 2007.
James Callan,
Acting Manager, Federal Crop Insurance Corporation.

[FR Doc. E7-4080 Filed 3-6-07; 8:45 am]

BILLING CODE 3410-08-P